DEPARTMENT OF HOUSING AND URBAN DEVELOPMENT

[Docket No. FR-4950-FA-17]

Announcement of Funding Awards for the Housing Choice Voucher Family Self Sufficiency Program for Fiscal Year 2005

AGENCY: Office of Public and Indian Housing, HUD.

ACTION: Announcement of funding awards.

SUMMARY: In accordance with Section 102(a)(4)(C) of the Department of Housing and Urban Development Reform Act of 1989, this announcement notifies the public of funding decisions made by the Department for funding under the Fiscal Year (FY) 2005 Notice of Funding Availability (NOFA) for the Family Self Sufficiency (FSS) program for FY2005. This announcement contains the consolidated names and addresses of those award recipients selected for funding based on the rating and ranking of all applications and the allocation of funding available for each state.

FOR FURTHER INFORMATION CONTACT: Iredia Hutchinson, Director, Grants Management Center, Office of Public and Indian Housing, Department of Housing and Urban Development, Washington, DC 20410-5000, telephone (202) 358-0221. For the hearing or speech impaired, these numbers may be accessed via TTY (text telephone) by calling the Federal Information Relay Service at (800) 877-8339. (Other than the “800” TTY number, these telephone numbers are not toll-free.)

SUPPLEMENTARY INFORMATION: The authority for the $45,500,000 in one-year budget authority FSS program coordinators is found in the Departments of Veteran Affairs and Housing and Urban Development, and Independent Agencies Appropriations Act, FY2004 (Pub. L. 108). The allocation of housing assistance budget authority is pursuant to the provisions of 24 CFR part 791, subpart D, implementing section 213 (d) of the Housing and Community Development Act of 1974, as amended.

This program is intended to promote the development of local strategies to coordinate the use of assistance under the Housing Choice Voucher program with public and private resources to enable participating families to achieve economic independence and self-sufficiency. A FSS program coordinator assures that program participants are linked to the supportive services they need to achieve self-sufficiency.

The FY2005 awards announced in this notice were selected for funding in a competition announced in a Federal Register NOFA published on March 21, 2005 (70 FR 14000). Applications were scored based on the selection criteria in that notice and funding selections made based on the rating and ranking of applications within each state.

In accordance with Section 102(a)(4)(C) of the Department of Housing and Urban Development Reform Act of 1989 (103 Stat. 1987, 42 U.S.C. 3545), the Department is publishing the names, addresses, and amounts of the 576 awards made under the Family Self-Sufficiency competitions in Appendix A.

Dated: December 18, 2006.
Orlando J. Cabrera,
Assistant Secretary for Public and Indian Housing.

Appendix A

Fiscal Year 2005 Funding Awards for the Housing Choice Voucher Family Self-Sufficiency Program
Recipient | Address | City | State | Zip code | Amount
Alaska Housing Finance Corporation | P.O. Box 101020, 4300 Boniface Parkway | Anchorage | AK | 99510 | $63,000
Housing Authority of the Birmingham District | 1826 3rd Avenue South | Birmingham | AL | 35233 | 63,000
Tuscaloosa Housing Authority | P.O. Box 2281, 2808 10th Avenue | Tuscaloosa | AL | 35401 | 49,478
Housing Authority of the City of Decatur, Alabama | 100 Wilson Street North East | Decatur | AL | 35601 | 33,422
Florence Housing Authority | 303 North Pine Street | Florence | AL | 35630 | 45,887
Mobile Housing Board | P.O. Box 1345, 151 South Claiborne Street | Mobile | AL | 36602 | 77,136
Housing Authority of the City of Prichard | 4559 St. Stephens Road | Eight Mile | AL | 36613 | 44,345
Housing Authority of the City of Pine Bluff | P.O. Box 8872, 2503 Belle Meade | Pine Bluff | AR | 71611 | 78,300
Housing Authority of the City of Hope | 720 Texas Street | Hope | AR | 71801 | 30,092
Conway County Housing Authority | P.O. Box 229 | Morrilton | AR | 72110 | 70,700
North Little Rock Housing Authority | P.O. Box 516, 2201 Division | North Little Rock | AR | 72115 | 105,746
Pulaski County Housing Agency | 201 South Broadway, Suite 220 | Little Rock | AR | 72201 | 34,125
Lee County Housing Authority | 100 West Main | Marianna | AR | 72360 | 23,462
Mississippi County Public Facilities Board | 810 West Keiser | Osceola | AR | 72370 | 70,527
Wynne Housing Authority | P.O. Box 552 | Wynne | AR | 72396 | 26,522
Jonesboro Urban Renewal & Housing Authority | 330 Union Street | Jonesboro | AR | 72401 | 40,400
White River Regional Housing Authority | P.O. Box 650 | Melbourne | AR | 72556 | 37,673
Northwest Regional Housing Authority | P.O. Box 2568 | Harrison | AR | 72601 | 39,025
Pope County Public Facilities Board | P.O. Box 846, 301 East 3rd Street | Russellville | AR | 72811 | 34,303
Fort Smith Housing Authority | 2100 North 31st Street | Fort Smith | AR | 72904 | 96,219
Housing Authority of Maricopa County | 2024 North 7th Street, Suite 101 | Phoenix | AZ | 85006 | 41,383
City of Phoenix Housing Department | 251 West Washington, 4th Floor | Phoenix | AZ | 85042 | 189,000
City of Mesa | 55 Center Street | Mesa | AZ | 85211 | 93,736
Pinal County Housing Division | 970 No. Eleven Mile Corner Road | Casa Grande | AZ | 85222 | 50,015
Chandler, City of | P.O. Box 4008, Mail Stop #101 | Chandler | AZ | 85244 | 52,318
City of Scottsdale Housing Authority | 7515 East 1st Street | Scottsdale | AZ | 85251 | 52,969
City of Tempe Housing Services | 21 East 6th Street, Suite 214 | Tempe | AZ | 85281 | 126,000
Yuma County | 8450 West Highway 95, Suite 88 | Somerton | AZ | 85350 | 24,699
Housing Authority of the City of Yuma | 420 South Madison Avenue | Yuma | AZ | 85364 | 127,632
Housing Authority of Cochise County | P.O. Box 167 | Bisbee | AZ | 85603 | 52,784
City of Tucson | P.O. Box 27210, 310 North Commerce Park Loop | Tucson | AZ | 85726 | 114,476
Mohave, County of | P.O. Box 7000 | Kingman | AZ | 86402 | 48,146
Culver City Housing Agency | 9770 Culver Boulevard | Culver City | CA | 90232 | 63,000
City of Santa Monica Housing Authority | 2121 Cloverfield Boulevard, Suite 131 | Santa Monica | CA | 90404 | 63,000
City of Norwalk | 12035 Firestone Boulevard | Norwalk | CA | 90650 | 61,500
Pico Rivera Housing Assistance Agency | P.O. Box 1016, 6615 Passons Boulevard | Pico Rivera | CA | 90660 | 63,000
The Housing Authority of the County of Los Angeles | 12131 Telegraph Road | Santa Fe Springs | CA | 90670 | 47,755
Housing Authority of the City of Long Beach | 521 East 4th Street | Long Beach | CA | 90802 | 246,517
Pasadena Community Development Commission | 649 North Fair Oaks Avenue, Suite 202 | Pasadena | CA | 91103 | 40,400
City of Glendale | 141 North Glendale Avenue, Room 202 | Glendale | CA | 91206 | 63,000
Area Housing Authority of the County of Ventura | 1400 West Hillcrest Drive | Newbury Park | CA | 91320 | 61,818
Housing Authority of the City of Upland, CA | 1226 North Campus Avenue | Upland | CA | 91786 | 33,162
City of Oceanside | 300 North Coast Highway | Oceanside | CA | 92054 | 126,000
San Diego Housing Commission | 1625 Newton Avenue | San Diego | CA | 92113 | 378,000
Housing Authority of the County of San Diego | 3989 Ruffin Road | San Diego | CA | 92123 | 49,146
Imperial Valley Housing Authority | 1401 D Street | Brawley | CA | 92227 | 58,766
Housing Authority of the County of San Bernardino | 715 East Brier Drive | San Bernardino | CA | 92408 | 116,896
Housing Authority of the County of Riverside | 5555 Arlington Avenue | Riverside | CA | 92504 | 47,945
Housing Authority of the City of Santa Ana | P.O. Box 22030 (M-27) | Santa Ana | CA | 92702 | 123,636
Orange County Housing Authority | 1770 North Broadway | Santa Ana | CA | 92706 | 123,677
City of Anaheim Housing Authority | 201 South Anaheim Boulevard, Suite 203 | Anaheim | CA | 92805 | 124,784
Housing Authority of the City of San Buenaventura | 995 Riverside Street | Ventura | CA | 93001 | 104,562
Housing Authority of the City of Oxnard | 435 South D Street | Oxnard | CA | 93030 | 60,478
Housing Authority of the City of Santa Barbara | 808 Laguna Street | Santa Barbara | CA | 93101 | 126,000
Housing Authority of the City of San Luis Obispo | 487 Leff Street | San Luis Obispo | CA | 93401 | 49,073
Housing Authority of the County of Santa Barbara | 815 West Ocean Avenue | Lompoc | CA | 93436 | 63,000
The Housing Authority of the City of Madera | 205 North G Street | Madera | CA | 93637 | 103,394
Housing Authority of the City of Fresno | Post Office Box 11985 | Fresno | CA | 93776 | 246,767
Housing Authority of the County of Fresno | Post Office Box 11985 | Fresno | CA | 93776 | 294,076
Housing Authority of the County of Monterey | 123 Rico Street | Salinas | CA | 93907 | 61,398
Housing Authority of the County of San Mateo | 264 Harbor Boulevard, #A | Belmont | CA | 94002 | 123,636
San Francisco Housing Authority | 440 Turk Street | San Francisco | CA | 94102 | 63,000
City of Benicia Housing Authority | 28 Riverhill Drive | Benicia | CA | 94510 | 123,273
Fairfield Housing Authority | 823-B Jefferson Street | Fairfield | CA | 94533 | 102,420
Housing Authority of the County of Alameda | 22941 Atherton Street | Hayward | CA | 94541 | 189,000
Housing Authority of Contra Costa | 3133 Estudillo Street | Martinez | CA | 94553 | 126,000
Housing Authority of the City of Napa | P.O. Box 660 | Napa | CA | 94559 | 126,000
Housing Authority of the City of Vallejo | P.O. Box 1432, 200 Georgia Street | Vallejo | CA | 94590 | 126,000
Oakland Housing Authority | 1619 Harrison Street | Oakland | CA | 94612 | 126,000
Housing Authority of the County of Marin | 4020 Civic Center Drive | San Rafael | CA | 94903 | 126,000
Housing Authority of the County of Santa Cruz | 2931 Mission Street | Santa Cruz | CA | 95060 | 63,000
Housing Authority of the County of Santa Clara | 505 West Julian Street | San Jose | CA | 95110 | 126,000
Housing Authority of the County of San Joaquin | P.O. Box 447, 448 South Center Street | Stockton | CA | 95201 | 102,066
Housing Authority of the County of Stanislaus | P.O. Box 581918, 1701 Robertson Road | Modesto | CA | 95358 | 53,392
Sonoma County Community Development Commission | 1440 Guerneville Road | Santa Rosa | CA | 95403 | 63,000
El Dorado County Community Services | 3057 Briw Road, Suite A 937 Spring Street | Placerville | CA | 95667 | 91,191
Roseville Housing Authority | 311 Vernon Street | Roseville | CA | 95678 | 63,000
Solano County Housing Authority | 40 Eldridge Avenue, Suite 2 | Vacaville | CA | 95688 | 107,110
Vacaville Housing Authority | 40 Eldridge Avenue, Suite 2 | Vacaville | CA | 95688 | 126,000
Yuba County | 915 8th Street, Suite 130 | Marysville | CA | 95901 | 57,810
Consolidated Area Housing Authority of Sutter County | 448 Garden Highway | Yuba City | CA | 95991 | 49,455
Housing Authority of the City of Redding | 777 Cypress Avenue | Redding | CA | 96001 | 55,868
Arvada Housing Authority | 8001 Ralston Road | Arvada | CO | 80004 | 37,371
Housing Authority of the City of Aurora | 10745 East Kentucky Avenue | Aurora | CO | 80012 | 43,101
Adams County Housing Authority | 7190 Colorado Boulevard | Commerce City | CO | 80022 | 89,422
Jefferson County Housing Authority | 7490 West 45th Avenue | Wheat Ridge | CO | 80033 | 74,742
Housing Authority of the City of Englewood | 3460 South Sherman, Suite 101 | Englewood | CO | 80113 | 42,000
Colorado Division of Housing | 1313 Sherman Street, Room 518 | Denver | CO | 80203 | 61,124
Housing Authority of the City & County of Denver | 777 Grant Street | Denver | CO | 80203 | 128,190
Lakewood Housing Authority | 480 South Allison Parkway | Lakewood | CO | 80226 | 37,371
Colorado Department of Human Services | 4020 South Newton Street | Denver | CO | 80236 | 54,736
Boulder County Housing Authority | P.O. Box 471 | Boulder | CO | 80306 | 118,687
Housing Authority of the City of Loveland | 375 West 37th Street, Suite 200 | Loveland | CO | 80538 | 80,600
Housing Authority of the City of Colorado Springs | P.O. Box 1575, MC 1490 | Colorado Springs | CO | 80901 | 47,393
Housing Authority of the City of Pueblo | 1414 North Santa Fe Avenue | Pueblo | CO | 81003 | 40,726
Grand Junction Housing Authority | 1011 North 10th Street | Grand Junction | CO | 81501 | 43,500
Fort Collins Housing Authority | 1715 West Mountain Avenue | Fort Collins | CO | 80521 | 124,930
Ansonia Housing Authority | 36 Main Street | Ansonia | CT | 06401 | 102,798
Housing Authority of the City of New Haven | P.O. Box 1912, 360 Orange Street | New Haven | CT | 06509 | 53,899
Housing Authority of the City of Meriden | 22 Church Street | Meriden | CT | 06512 | 92,919
Housing Authority of the City of Norwalk | P.O. Box 508, 24½ Monroe Street | Norwalk | CT | 06856 | 189,000
District of Columbia Housing Authority | 1133 North Capitol Street, Northeast, Room 324 | Washington | DC | 20002 | 189,000
Housing Authority of the City of Daytona Beach | 211 North Ridgewood Avenue, Suite 200 | Daytona Beach | FL | 32114 | 36,136
Jacksonville Housing Authority | 1300 Broad Street | Jacksonville | FL | 32202 | 43,979
City of Pensacola Department of Housing | P.O. Box 12910 | Pensacola | FL | 32521 | 29,410
Housing Authority of the City of Orlando, Florida | 24 Fanfair Avenue | Orlando | FL | 32811 | 98,195
Hialeah Housing Authority | 75 East 6th Street | Hialeah | FL | 33010 | 68,843
Hollywood Housing Authority | 7350 North Davie Road Extension | Hollywood | FL | 33024 | 19,323
City of Homestead Housing Authority | 29355 South Federal Highway | Homestead | FL | 33030 | 45,000
Miami-Dade County | 111 Northwest 1st Street 29th Floor | Miami | FL | 33128 | 63,000
Housing Authority of the City of Miami Beach | 200 Alton Road | Miami Beach | FL | 33139 | 61,206
Housing Authority of the City of Fort Lauderdale | 437 Southwest 4th Avenue | Fort Lauderdale | FL | 33315 | 61,776
Broward County Housing Authority | 3810 Inverrary Boulevard, Suite 405 | Lauderhill | FL | 33319 | 46,992
Palm Beach County Housing Authority | 3432 West 45th Street | West Palm Beach | FL | 33407 | 71,819
West Palm Beach Housing Authority | 1715 Division Avenue | West Palm Beach | FL | 33407 | 34,516
Boca Raton Housing Authority | 201 W. Palmetto Park Road | Boca Raton | FL | 33432 | 29,500
Deerfield Beach Housing Authority | 533 South Dixie Highway | Deerfield Beach | FL | 33441 | 15,020
Pasco County Housing Authority | 14517 7th Street | Dade City | FL | 33523 | 31,471
Housing Authority of the City of Tampa | 1529 West Main Street | Tampa | FL | 33607 | 115,801
Clearwater Housing Authority | 908 Cleveland Street | Clearwater | FL | 33755 | 81,810
Pinellas County Housing Authority | 11479 Ulmerton Road | Largo | FL | 33778 | 87,152
Lakeland Housing Authority | 430 Hartsell Avenue | Lakeland | FL | 33815 | 47,237
Ocala Housing Authority | 1629 Northwest 4th Street | Ocala | FL | 34475 | 49,399
Hernando County Housing Authority | 2 North Broad Street | Brooksville | FL | 34601 | 38,275
Housing Authority of the City of Marietta | P.O. Box Drawer K, 95 Cole Street | Marietta | GA | 30060 | 54,400
City of Marietta Georgia | 205 Lawrence Street | Marietta | GA | 30060 | 54,482
Housing Authority City of Jonesboro | 203 Hightower Street | Jonesboro | GA | 30236 | 37,642
Housing Authority of Fulton County | 10 Park Place South, South East, Suite 550 | Atlanta | GA | 30303 | 44,303
The Housing Authority of the City of Atlanta, Georgia | 230 John Wesley Dobbs Avenue, NE | Atlanta | GA | 30303 | 226,406
Georgia Department of Community Affairs | 60 Executive Park South, North East | Atlanta | GA | 30329 | 345,134
Housing Authority of the City of College Park, Georgia | 2000 West Princeton Avenue | College Park | GA | 30337 | 62,492
The Housing Authority of the City of Augusta, Georgia | P.O. Box 3246, 1435 Walton Way | Augusta | GA | 30914 | 97,624
Housing Authority of Savannah | P.O. Box 1179 | Savannah | GA | 31402 | 68,643
The Housing Authority, City of Brunswick | P.O. Box 1118 | Brunswick | GA | 31521 | 41,267
County of Hawaii | 50 Wailuku Drive | Hilo | HI | 96720 | 63,000
Kauai County Housing Agency | 4444 Rice Street, Suite 333 | Lihue | HI | 96766 | 109,316
City and County of Honolulu | Honolulu Hale | Honolulu | HI | 96813 | 117,035
Housing & Community Development Corporation of Hawaii | 677 Queen Street, Suite 300 | Honolulu | HI | 96813 | 54,824
Central Iowa Regional Housing Authority | 950 Office Park Road, Suite 321 | West Des Moines | IA | 50265 | 55,284
Des Moines Municipal Housing Agency | 100 East Euclid, Suite 101 | Des Moines | IA | 50313 | 62,899
Mid Iowa Regional Housing Authority | 1814 Central Avenue | Fort Dodge | IA | 50501 | 43,066
Municipal Housing Agency of the City of Fort Dodge | 700 South 17th Street | Fort Dodge | IA | 50501 | 94,818
Waterloo Housing Authority | 620 Mulberry Street | Waterloo | IA | 50703 | 49,089
Southern Iowa Regional Housing Authority | 219. N. Pine Street | Creston | IA | 50801 | 41,722
Northeast Nebraska Joint Housing Authority | 507 7th Street, Suite #401 | Sioux City | IA | 51101 | 72,121
City of Sioux City Housing Authority | P.O. Box 447 | Sioux City | IA | 51102 | 126,000
Region XII Regional Housing Authority | 320 East 7th Street | Carroll | IA | 51401 | 43,900
City of Dubuque | 1805 Central Avenue | Dubuque | IA | 52001 | 66,824
Eastern Iowa Region Housing Authority | 3999 Pennsylvania Avenue, Suite 200 | Dubuque | IA | 52002 | 61,083
Iowa City Housing Authority | 410 E Washington Street | Iowa City | IA | 52240 | 114,753
City of Cedar Rapids | 1211 6th Street South West | Cedar Rapids | IA | 52404 | 94,859
Southwestern Idaho Cooperative Housing Authority | 1108 West Finch Drive | Nampa | ID | 83651 | 128,445
Ada County Housing Authority | 1276 River Street, Suite #300 | Boise | ID | 83702 | 104,296
Boise City Housing Authority | 1276 River Street, Suite # 300 | Boise | ID | 83702 | 104,297
Idaho Housing and Finance Association | P.O. Box 7899, 565 West Myrtle Street | Boise | ID | 83707 | 219,086
DuPage Housing Authority | 711 East Roosevelt Road | Wheaton | IL | 60187 | 85,850
Chicago Housing Authority | 626 West Jackson Boulevard | Chicago | IL | 60661 | 517,977
Rockford Housing Authority | 223 South Winnebago Street | Rockford | IL | 61102 | 179,330
Housing Authority of the City of Rock Island | 227 21st Street | Rock Island | IL | 61201 | 63,000
Peoria Housing Authority | 100 South Richard Pryor Place | Peoria | IL | 61605 | 47,263
Housing Authority of the City of Bloomington | 104 East Wood Street | Bloomington | IL | 61701 | 49,268
The Housing Authority of Champaign County | 205 West Park Avenue | Champaign | IL | 61820 | 32,513
Housing Authority of the City of East Saint Louis | 700 North 20th Street | East Saint Louis | IL | 62205 | 63,000
Springfield Housing Authority | 200 North Eleventh Street | Springfield | IL | 62703 | 42,000
Indianapolis Housing Agency | 1935 North Meridian | Indianapolis | IN | 46202 | 207,850
Indiana Family and Social Services Administration | P.O. Box #6116, 402 West Washington Street | Indianapolis | IN | 46208 | 24,645
Housing Authority of the City of Hammond | 1402 173rd Street | Hammond | IN | 46324 | 56,535
Elkhart Housing Authority | 1396 Benham Avenue | Elkhart | IN | 46516 | 83,623
Goshen Housing Authority | 1101 West Lincoln Avenue, Suite 100 | Goshen | IN | 46526 | 96,975
Housing Authority of South Bend | 501 Alonzo Watson Drive | South Bend | IN | 46601 | 35,668
Housing Authority of the City of Fort Wayne, Indiana | 2013 South Anthony Boulevard | Fort Wayne | IN | 46869 | 76,173
Housing Authority of the City of Kokomo, IN | P.O. Box 1207, 210 East Taylor Street | Kokomo | IN | 46903 | 39,636
Logansport Housing Authority | 417 North Street, Suite 102 | Logansport | IN | 46947 | 28,548
Housing Authority of the City of Marion Indiana | 601 South Adams Street | Marion | IN | 46953 | 33,482
Housing Authority City of Peru | 701 East Main Street | Peru | IN | 46970 | 33,849
Housing Authority for the City of Columbus | 1531 13th Street, Suite G600 | Columbus | IN | 47201 | 47,668
The Housing Authority of the City of Muncie | 409 East First Street | Muncie | IN | 47302 | 23,972
The Housing Authority of the City of Bloomington | 1007 North Summit | Bloomington | IN | 47404 | 87,500
Knox County Housing Authority | 11 Powell Street | Bicknell | IN | 47512 | 30,903
Housing Authority of Vincennes | P.O. Box 1636, 501 Hart Street | Vincennes | IN | 47591 | 83,036
Terre Haute Housing Authority | P.O. Box 3086, One Dreiser Square | Terrre Haute | IN | 47803 | 107,375
Lafayette Housing Authority | P.O. Box 6687, 100 Executive Drive, Suite J | Lafayette | IN | 47903 | 38,456
Housing Authority of the City of Atchison, Kansas | 103 South 7th Street | Atchison | KS | 66002 | 29,737
Lawrence-Douglas County Housing Authority | 1600 Haskell Avenue | Lawrence | KS | 66044 | 68,941
City of Olathe Housing Authority | P.O. Box 768, 300 North Chestnut | Olathe | KS | 66051 | 47,500
Topeka Housing Authority | 2010 South East California Avenue | Topeka | KS | 66607 | 40,269
City of Wichita Kansas | 322 North Riverview | Wichita | KS | 67203 | 163,710
Louisville Metro Housing Authority | 420 South Eighth Street | Louisville | KY | 40203 | 367,842
City of Richmond Section 8 Housing | P.O. Box 250 | Richmond | KY | 40476 | 34,683
Lexington-Fayette Urban County Housing Authority | 300 West New Circle Road Northwest | Lexington | KY | 40505 | 47,602
Kentucky Housing Corporation | 1231 Louisville Road | Frankfort | KY | 40601 | 146,500
Barbourville Urban Renewal & CDA | P.O. Box 806, 338 Court Square | Barbourville | KY | 40906 | 31,128
Pineville/Bell County Urban Renewal and Community Development Agency | P.O. Box 460, 114 West Kentucky Avenue | Pineville | KY | 40977 | 30,909
Boone County Fiscal Court | 2950 Washington Street | Burlington | KY | 41005 | 63,000
City of Covington | 638 Madison Avenue, 2nd Floor | Covington | KY | 41011 | 33,864
Housing Authority of Cynthiana | 148 Federal Street | Cynthiana | KY | 41031 | 48,921
Campbell County Department of Housing | 515 Monmouth Street, Suite 302 | Newport | KY | 41071 | 45,985
Housing Authority of Newport, KY | P.O. Box 459 | Newport | KY | 41072 | 44,508
City of Paducah Section 8 Housing | P.O. Box 2267 | Paducah | KY | 42002 | 36,715
City of Bowling Green Section 8 | P.O. Box 430, 1017 College Street | Bowling Green | KY | 42102 | 78,338
Housing Authority of Somerset | P.O. Box 449 | Somerset | KY | 42502 | 80,588
Campbellsville Housing & Redevelopment Authority | P.B. Box 597, 400 Ingram Avenue | Campbellsville | KY | 42718 | 27,251
Municipal Housing Agency of Council Bluffs, Iowa | 505 South 6th Street | Council Bluffs | LA | 51501 | 46,314
Jefferson Parish Housing Authority | 1718 Betty Street | Marrero | LA | 70072 | 104,000
Housing Authority of New Orleans | 4100 Touro Street | New Orleans | LA | 70122 | 74,468
Calcasieu Parish Housing Department | 1011 Lakeshore Drive, Suite 602 | Lake Charles | LA | 70601 | 57,177
Housing Authority of the City of Monroe | 300 Harrison Street | Monroe | LA | 71201 | 25,900
Housing Authority of the Parish of Natchitoches | 525 Fourth Street | Natchitoches | LA | 71457 | 45,000
Leominster Housing Authority | 100 Main Street | Leominster | MA | 1453 | 45,908
Acton Housing Authority | P.O. Box 681, 68 Windsor Avenue | Acton | MA | 1720 | 37,350
Chelmsford Housing Authority | 10 Wilson Street | Chelmsford | MA | 1824 | 44,120
Gloucester Housing Authority | P.O. Box 1599, 259 Washington Street | Gloucester | MA | 1930 | 40,869
Braintree Housing Authority | 25 Roosevelt Street | Braintree | MA | 2184 | 32,543
Holyoke Housing Authority | 475 Maple Street, Suite One | Holyoke | MA | 01040 | 95,502
Greenfield Housing Authority | 1 Elm Terrace | Greenfield | MA | 01301 | 120,229
Gardner Housing Authority | 116 Church Street | Gardner | MA | 01440 | 48,300
Worcester Housing Authority | 40 Belmont Street | Worcester | MA | 01605 | 62,465
Framingham Housing Authority | 1 John J. Brady Drive | Framingham | MA | 01702 | 73,451
Woburn Housing Authority | 59 Campbell Street | Woburn | MA | 01801 | 114,656
Methuen Housing Authority | 24 Mystic Street | Methuen | MA | 01844 | 43,865
North Andover Housing Authority | One Morkeski Meadows | North Andover | MA | 01845 | 32,858
Lowell Housing Authority | P.O. Box 60, 350 Moody Street | Lowell | MA | 01853 | 118,000
Lynn Housing Authority | 10 Church Street | Lynn | MA | 01902 | 57,697
Dedham Housing Authority | 163 Dedham Boulevard | Dedham | MA | 02026 | 63,000
Boston Housing Authority | 52 Chauncy Street | Boston | MA | 02111 | 186,230
Commonwealth of Massachusetts | 100 Cambridge Street, Suite 300 | Boston | MA | 02114 | 527,779
Somerville Housing Authority | 30 Memorial Road | Somerville | MA | 02145 | 45,909
Brockton Housing Authority | 45 Goddard Road | Brockton | MA | 02301 | 126,000
Avon Housing Authority | 1 Fellowship Circle | Avon | MA | 02322 | 30,281
Plymouth Housing Authority | P.O. Box 3537, 69 Allerton Street | Plymouth | MA | 02361 | 40,319
St. Mary's County Housing Authority | P.O. Box 653, 41650 Tudor Hall Road | Leonardtown | MD | 20650 | 42,862
Housing Authority of Calvert County | P.O. Box 2509, 480 Main Street | Prince Frederick | MD | 20678 | 50,494
Rockville Housing Enterprises | 621 A Southlawn Lane | Rockville | MD | 20850 | 114,008
Housing Opportunities Commission | 10400 Detrick Avenue | Kensington | MD | 20895 | 350,185
Harford County | 15 South Main Street, Suite 106 | Bel Air | MD | 21014 | 96,707
Maryland Department of Housing & Community Development | 100 Community Place | Crownsville | MD | 21032 | 36,061
Howard County Government | 6751 Columbia Gateway Drive, 3rd Floor | Columbia | MD | 21046 | 121,097
City of Westminster | 56 West Main Street | Westminster | MD | 21157 | 42,420
Commissioners of Carroll County | 225 North Center Street | Westminster | MD | 21157 | 39,976
Housing Authority of Baltimore City | 417 East Fayette Street, Room 265 | Baltimore | MD | 21202 | 63,000
Baltimore County Department of Social Services, Housing Office | 6401 York Road | Baltimore | MD | 21212 | 125,085
Queen Anne's County Housing Authority | P.O. Box 327 | Centreville | MD | 21617 | 41,784
Housing Authority of the City of Frederick | 209 Madison Street | Frederick | MD | 21701 | 97,945
Housing Authority of Washington County | P.O. Box 2944, 44 North Potomac Street, Suite 201 | Hagerstown | MD | 21740 | 29,588
Housing Authority of the City of Hagerstown | 35 West Baltimore Street | Hagerstown | MD | 21740 | 48,212
Cecil County Housing Agency | 129 E. Main Street | Elkton | MD | 21921 | 49,500
Westbrook Housing Authority | 30 Liza Harmon Drive | Westbrook | ME | 04092 | 38,637
Portland Housing Authority | 14 Baxter Boulevard | Portland | ME | 04101 | 50,290
Lewiston Housing Authority | 1 College Street | Lewiston | ME | 04240 | 8,695
Agusta Housing Authority | 33 Union Street, Suite #3 | Augusta | ME | 04330 | 30,909
Maine State Housing Authority | 353 Water Street | Augusta | ME | 04330 | 74,806
City of Caribou Housing Agency | 25 High Street | Caribou | ME | 04736 | 46,364
Plymouth Housing Commission | 1160 Sheridan | Plymouth | MI | 48170 | 42,313
Westland Housing Commission | 32715 Dorsey Road | Westland | MI | 48186 | 32,147
Saginaw Housing Commission | P.O. Box 3225, 1803 Norman | Saginaw | MI | 48605 | 83,990
Michigan State Housing Development Authority | P.O. Box 30044, 735 East Michigan Avenue | Lansing | MI | 48909 | 504,000
Muskegon Housing Commission | 1080 Terrace | Muskegon | MI | 49442 | 42,420
Kent County Housing Commission | 82 Ionia Avenue, Northwest, Suite 390 | Grand Rapids | MI | 49503 | 113,640
Grand Rapids Housing Commission | 1420 Fuller Avenue, Southeast | Grand Rapids | MI | 49507 | 114,363
Grayling Housing Commission | 308 Lawndale | Grayling | MI | 49738 | 35,703
Metropolitan Council | 230 East 5th Street | Saint Paul | MN | 55101 | 60,796
Dakota County CDA | 1228 Town Centre Drive | Eagan | MN | 55123 | 23,669
Scott County Housing and Redevelopment Authority | 323 South Naumkeag Street | Shakopee | MN | 55379 | 50,500
Housing Authority of St. Louis Park | 5005 Minnetonka Boulevard | St. Louis Park | MN | 55416 | 18,638
Housing & Redevelopment Authority of Virginia MN | 442 Pine Mill Court | Virginia | MN | 55792 | 55,863
Housing & Redevelopment Authority of Duluth, MN | P.O. Box 16900, 222 East Second Street | Duluth | MN | 55816 | 45,354
SE Minnestoa Multi-County Housing and Redevelopment Authority | 134 East 2nd Street | Wabasha | MN | 55981 | 34,657
South Central MN Multi-County HRA | 410 Jackson Street, Suite 300 | Mankato | MN | 56001 | 72,759
Mankato Economic Development Authority | P.O. Box 3368, 10 Civic Center Plaza | Mankato | MN | 56002 | 101,505
Brainerd Housing and Redevelopment Authority | 324 East River Road | Brainerd | MN | 56401 | 42,170
Northwest Minnesota Multi-County HRA | P.O. Box 128, 205 Garfield Avenue | Mentor | MN | 56736 | 36,240
Franklin County Public Housing Agency | P.O. Box 920 | Hillsboro | MO | 63050 | 41,314
St. Louis Housing Authority | 4100 Lindell Boulevard | St. Louis | MO | 63108 | 39,083
Housing Authority of St. Louis County | 8865 Natural Bridge Road | St. Louis | MO | 63121 | 82,866
North East Community Action Corporation/Lincoln County PHA | 16 North Court Street—P.O. Box 470 | Bowling Green | MO | 63334 | 104,817
St. Francois County PHA | 107 Industrial Drive Box N | Park Hills | MO | 63601 | 30,000
Housing Authority of the City of Liberty, Missouri | 101 East Kansas | Liberty | MO | 64068 | 42,478
Housing Authority of Kansas City, Missouri | 301 East Armour | Kansas City | MO | 64111 | 120,650
Saint Clair County PHA | P.O. Box 125, 106 West Fourth Street | Appleton City | MO | 64724 | 106,017
Jasper County Public Housing Authority | P.O. Box 207, 302 Joplin Street | Joplin | MO | 64801 | 26,823
Housing Authority of the City of Columbia, Missouri | 201 Switzler Street | Columbia | MO | 65203 | 39,919
Phelps County Public Housing Agency | #4 Industrial Drive | Saint James | MO | 65559 | 51,886
Housing Authority of the City of Springfield | 421 West Madison Street | Springfield | MO | 65612 | 25,524
Tennessee Valley Regional Housing Authority | P.O. Box 1329 | Corinth | MS | 38835 | 76,254
Mississippi Regional Housing Authority No. VI | P.O. Drawer 8647, 2180 Terry Road | Jackson | MS | 39284 | 96,775
Mississippi Regional Housing Authority No. V | 110 Broad Street | Newton | MS | 39345 | 31,616
Mississippi Regional Housing Authority No. VII | P.O. Box 430 | McComb | MS | 39649 | 54,633
Mississippi Regional Housing Authority No. IV | P.O. Box 1051, 2845 South Frontage Road | Columbus | MS | 39703 | 36,365
Housing Authority of Billings | 2415 First Avenue North | Billings | MT | 59101 | 39,449
Missoula Housing Authority | 1235 34th Street | Missoula | MT | 59801 | 72,860
Housing Authority of the City of Winston-Salem | 901 Cleveland Avenue | Winston-Salem | NC | 27101 | 51,515
Housing Authority of the City of High Point | 500 East Russell Avenue | High Point | NC | 27261 | 37,784
Chatham County Housing Authority | P.O. Box 637, 190 Sanford Road | Pittsboro | NC | 27312 | 41,279
Sanford Housing Authority | P.O. Box 636, 1000 Carthage Street | Sanford | NC | 27330 | 42,500
Greensboro Housing Authority | P.O. Box 21287, 450 North Church Street | Greensboro | NC | 27420 | 119,343
Housing Authority of the City of Greenville | P.O. Box 1426, 1103 Broad Street | Greenville | NC | 27834 | 57,701
City of Concord Housing Department | P.O. Box 308, 283 Harold Goodman Circle | Concord | NC | 28026 | 38,285
Gastonia Housing Authority | P.O. Box 2398, 340 West Long Avenue | Gastonia | NC | 28053 | 45,450
Isothermal Planning & Development Commission | P.O. Box 841 | Rutherfordton | NC | 28139 | 34,040
Charlotte Housing Authority | 1301 South Boulevard | Charlotte | NC | 28203 | 55,901
Sandhills Community Action Program, Inc | P.O. Box 937, 103 Saunders Street | Carthage | NC | 28327 | 31,954
Housing Authority of the Town of Laurinburg | P.O. Box 1437, 1300 Woodlawn Street | Laurinburg | NC | 28352 | 117,432
Housing Authority of the City of Wilmington, N.C | P.O. Box 899, 1524 South 16th Street | Wilmington | NC | 28401 | 106,234
Twin Rivers Opportunities, Inc | 318 Craven Street | New Bern | NC | 28563 | 73,218
Coastal Community Action, Inc | P.O. Box 729, 303 McQueen Avenue | Newport | NC | 28570 | 35,836
Northwestern Regional Housing Authority | 869 Highway, 105 Extension | Boone | NC | 28607 | 198,815
Statesville Housing Authority | 110 West Allison Street | Statesville | NC | 28677 | 92,677
Mountain Projects, Inc | 2251 Old Balsam Road | Waynesville | NC | 28786 | 32,133
Western Carolina Community Action | P.O. Box 685, 526 Seventh Avenue East | Hendersonville | NC | 28793 | 62,553
Housing Authority of the City of Asheville | P.O. Box 1898, 165 South French Broad Avenue | Asheville | NC | 28801 | 69,662
Fargo Housing and Redevelopment Authority | 325 Broadway | Fargo | ND | 58102 | 39,738
Grand Forks Housing Authority | 1405 1 Avenue North | Grand Forks | ND | 58203 | 143,520
Minot Housing Authority | 108 Burdick Expy. East | Minot | ND | 58701 | 41,100
Housing Authority of the City of Omaha | 540 South 27 Street | Omaha | NE | 68105 | 83,258
Housing Authority of the City of Lincoln | 5700 R Street | Lincoln | NE | 68505 | 57,993
Nashua Housing Authority | 40 East Pearl Street | Nashua | NH | 3060 | 20,000
Dover Housing Authority | 62 Whittier Street | Dover | NH | 3820 | 56,286
Manchester Housing and Redevelopment Authority | 198 Hanover Street | Manchester | NH | 03104 | 42,814
New Hampshire Housing Finance Authority | 32 Constitution Drive | Bedford | NH | 03110 | 215,880
Housing Authority of the Town of Boonton | 125 Chestnut Street | Boonton | NJ | 7005 | 63,000
Community Affairs, New Jersey Dept of | P.O. Box 051, 101 South Broad Street | Trenton | NJ | 8625 | 756,000
Housing Authority of the City of East Orange | 160 Halsted Street | East Orange | NJ | 07018 | 126,000
Fort Lee Housing Authority | 1403 Teresa Drive | Fort Lee | NJ | 07024 | 96,848
Housing Authority of the Township of Weehawken | 525 Gregory Avenue | Weehawken | NJ | 07086 | 40,000
Housing Authority of the Township of Woodbridge | 20 Bunns Lane | Woodbridge | NJ | 07095 | 21,205
Housing Authority of the City of Jersey City | 400 US Highway #1, Marion Gardens | Jersey City | NJ | 07306 | 172,613
Housing Authority of the City of Paterson | 60 Van Houten Street | Paterson | NJ | 07505 | 49,395
Passaic County Public Housing Agency | 100 Hamilton Plaza, Suite 510 | Paterson | NJ | 07505 | 122,004
Monmouth County Public Housing Agency | P.O. Box 3000, 3000 Kozloski Road | Freehold | NJ | 07728 | 126,000
Housing Authority of Long Branch | P.O. Box 337 | Long Branch | NJ | 07740 | 93,480
Housing Authority Town of Dover | 215 East Blackwell Street | Dover | NJ | 07801 | 61,685
Warren County Housing Authority | 415 B Front Street | Belvidere | NJ | 07823 | 63,000
Housing Authority of the Borough of Madison | 15 Chateau Thierry Avenue | Madison | NJ | 07940 | 53,045
Housing Authority of the County of Morris | 99 Ketch Road | Morristown | NJ | 07960 | 30,909
Glassboro Housing Authority | P.O. Box 563, 737 Lincoln Boulevard | Glassboro | NJ | 08028 | 45,739
Housing Authority of Gloucester County | 100 Pop Moylan Boulevard | Deptford | NJ | 08096 | 82,588
Housing Authority of the City of Camden | 1300 Admiral Wilson Boulevard | Camden | NJ | 08102 | 38,764
Atlantic City Housing Authority | P.O. Box 1258, 227 N. Vermont Avenue, 17th Floor | Atlantic City | NJ | 08401 | 86,420
Housing Authority of the Township of Lakewood | 317 Sampson Avenue | Lakewood | NJ | 08701 | 63,000
Lakewood Tenants Organization, Inc | P.O. Box 856, 600 West Kennedy Boulevard | Lakewood | NJ | 08701 | 112,289
Housing Authority of the Township of Brick | 165 Chambers Bridge Road | Brick | NJ | 08723 | 15,271
Housing Authority of the City of Perth Amboy | P.O. Box 390, 881 Amboy Avenue | Perth Amboy | NJ | 08862 | 159,168
Bernalillo County | 1900 Bridge Boulevard, Southwest | Albuquerque | NM | 87105 | 112,625
Santa Fe County Housing Authority | 52 Camino de Jacobo | Santa Fe | NM | 87507 | 106,637
Socorro County Housing Authority | P.O. Box 00, 106 Center Street | Socorro | NM | 87801 | 22,841
Truth or Consequences Housing Authority | 108 Cedar | Truth or Consequences | NM | 87901 | 44,303
Region IV Housing Authority Eastern Plains Council of Governments | 418 Main Street | Clovis | NM | 88101 | 27,236
Clovis Housing & Redevelopment Agency, Inc | P.O. Box 1240, 2101 West Grand Avenue | Clovis | NM | 88102 | 33,172
Regional Housing Authority of Region VI New Mexico, Inc | P.O. Drawer 2057, 106 East Reed Street | Roswell | NM | 88202 | 53,554
City of Tucumcari Housing Authority | P.O. Box 1026, 323 East Smith | Tucumcari | NM | 88401 | 30,005
Housing Authority of the City of North Las Vegas | 1632 Yale Street | North Las Vegas | NV | 89030 | 108,235
The Housing Authority of the City of Las Vegas | 340 North 11th Street | Las Vegas | NV | 89101 | 187,500
Housing Authority of Clark County, Nevada | 5390 East Flamingo Road | Las Vegas | NV | 89122 | 107,122
Housing Authority of the City of Reno | 1525 East 9th Street | Reno | NV | 89512 | 42,175
New York State Division of Housing & Community Renewal | 25 Beaver Street, Room 732 | New York | NY | 10004 | 216,887
Village of Kiryas Joel Housing Authority | 51 Forest Road, Suite 360 | Monroe | NY | 10950 | 63,000
Town of Babylon | 281 Phelps Lane, Room 9 | North Babylon | NY | 11703 | 47,182
Town of Brookhaven | One Independence Hill | Farmingville | NY | 11738 | 56,000
Town of Smithtown | P.O. Box 575, 99 West Main Street | Smithtown | NY | 11787 | 47,294
Amsterdam Housing Authority | 52 Division Street | Amsterdam | NY | 12010 | 47,980
Gloversville Housing Authority | 161 West Street | Gloversville | NY | 12078 | 46,812
Town of Colonie | Route 9 (Memorial Town Hall) | Colonie | NY | 12128 | 50,049
Town of Coeymans | 18 Russell Avenue | Ravena | NY | 12143 | 24,763
Albany Housing Authority | 200 South Pearl Street | Albany | NY | 12202 | 141,898
Village of Scotia | 4 North Ten Broeck Street | Scotia | NY | 12302 | 27,383
Schenectady Municipal Housing Authority | 375 Broadway | Schenectady | NY | 12305 | 91,016
Town of Rotterdam | % Joseph E. Mastrianni, Inc., 242 Union Street | Schenectady | NY | 12305 | 52,138
Town of Poughkeepsie Section 8 Housing Program | 1 Overocker Road | Poughkeepsie | NY | 12603 | 51,275
Village of Corinth | 260 Main Street | Corinth | NY | 12822 | 31,624
Fulton Community Development Agency | 125 West Broadway | Fulton | NY | 13069 | 29,328
City of Oswego Community Development Office | 20 West Oneida Street, 3rd Floor | Oswego | NY | 13126 | 44,851
Syracuse Housing Authority | 516 Burt Street | Syracuse | NY | 13202 | 93,826
City of Utica Section 8 Program | 1 Kennedy Plaza | Utica | NY | 13502 | 28,849
City of Buffalo | 470 Franklin Street | Buffalo | NY | 14202 | 193,153
City of North Tonawanda PHA, Belmont Shelter Corp., Agent | 1195 Main Street | Buffalo | NY | 14209 | 46,225
Erie County PHA Consortium, Belmont Shelter Corp., Agent | 1195 Main Street | Buffalo | NY | 14209 | 141,266
City of Niagara Falls | P.O. Box 69, 1022 Main Street | Niagara Falls | NY | 14302 | 22,688
Rochester Housing Authority | 675 West Main Street | Rochester | NY | 14611 | 209,570
Jamestown Housing Authority | 110 West Third Street | Jamestown | NY | 14701 | 34,300
Ithaca Housing Authority | 800 South Plain Street | Ithaca | NY | 14850 | 60,721
Delaware Metropolitan Housing Authority | P.O. Box 1292, 222 Curtis Street | Delaware | OH | 43015 | 44,720
Knox Metropolitan Housing Authority | 236 South Main Street, Suite 201 | Mount Vernon | OH | 43050 | 44,000
Pickaway Metro Housing Authority | 176 Rustic Drive | Circleville | OH | 43113 | 34,330
Fairfield Metropolitan Housing Authority | 1506 Amherst Place | Lancaster | OH | 43130 | 46,359
Fayette Metropolitan Housing Authority | 121 E. East Street | Washington CH | OH | 43160 | 31,939
Columbus Metropolitan Housing Authority | 880 East 11th Avenue | Columbus | OH | 43211 | 93,426
Logan County Metropolitan Housing Authority | 116 North Everett Street | Bellefontaine | OH | 43311 | 72,126
Morrow Metropolitan Housing Authority | 81 North Rich Street | Mount Gilead | OH | 43338 | 35,766
Lucas Metropolitan Housing Authority | 435 Nebraska Avenue | Toledo | OH | 43697 | 176,042
Zanesville Metropolitan Housing Authority | 407 Pershing Road | Zanesville | OH | 43701 | 105,645
Cambridge Metropolitan Housing Authority | 1100 Maple Court | Cambridge | OH | 43725 | 31,540
Morgan Metropolitan Housing Authority | 4580 North Street, Route 376, North West | McConnelsville | OH | 43756 | 44,303
Jefferson Metropolitan Housing Authority | 815 North 6th Avenue | Steubenville | OH | 43952 | 50,686
Lorain Metropolitan Housing Authority | 1600 Kansas Avenue | Lorain | OH | 44052 | 47,199
Lake Metropolitan Housing Authority | 189 First Street | Painesville | OH | 44077 | 74,944
Cuyahoga Metropolitan Housing Authority | 2711 Church Avenue | Cleveland | OH | 44113 | 43,272
Medina Metropolitan Housing Authority | 850 Walter Road | Medina | OH | 44256 | 115,766
Portage Metropolitan Housing Authority | 2832 State Route 59 | Ravenna | OH | 44266 | 36,596
Akron Metropolitan Housing Authority | 100 West Cedar Street | Akron | OH | 44307 | 200,864
Trumbull Metropolitan Housing Authority | 4076 Youngstown Road, Southeast, Suite 101 | Warren | OH | 44436 | 63,000
Tuscarawas Metropolitan Housing Authority | 134 Second St. Southwest | New Philadelphia | OH | 44663 | 52,998
Wayne Metropolitan Housing Authority | 345 North Market Street | Wooster | OH | 44691 | 41,830
Erie Metropolitan Housing Authority | 322 Warren Street | Sandusky | OH | 44870 | 49,145
City of Middletown, Ohio | 1040 Central Avenue | Middletown | OH | 45044 | 78,304
Adams Metropolitan Housing Authority | 401 East Seventh Street | Manchester | OH | 45144 | 37,760
CMHA | 16 West Central Parkway | Cincinnati | OH | 45202 | 203,726
Dayton Metropolitan Housing Authority | P.O. Box 8750, 400 Wayne Avenue | Dayton | OH | 45401 | 115,834
Springfield Metropolitan Housing Authority | 437 East John Street | Springfield | OH | 45505 | 42,478
Chillicothe Metropolitan Housing Authority | 178 West Fourth Street | Chillicothe | OH | 45601 | 32,969
Vinton Metropolitan Housing Authority | P.O. Box 487, 310 West High Street | McArthur | OH | 45651 | 110,547
City of Marietta, Ohio/PHA | 301 Putnam Street | Marietta | OH | 45750 | 46,104
Meigs Housing Authority | 117 East Memorial Drive | Pomeroy | OH | 45769 | 14,077
Allen Metropolitan Housing Authority | 600 South Main Street | Lima | OH | 45804 | 37,585
Norman Housing Authority | 700 North Berry Road | Norman | OK | 73069 | 44,864
Oklahoma Housing Finance Agency | 100 Northwest 63rd, Suite 200 | Oklahoma City | OK | 73116 | 88,880
Oklahoma City Housing Authority | 1700 Northeast Fourth Street | Oklahoma City | OK | 73117 | 52,561
Housing Authority of the City of Stillwater | 807 S. Lowry | Stillwater | OK | 74074 | 42,151
Housing Authority of the City of Tulsa | 415 East Independence | Tulsa | OK | 74106 | 62,918
Housing Authority of the City of Shawnee, Oklahoma | P.O. Box 3427, 601 West 7th Street | Shawnee | OK | 74802 | 48,691
Housing Authority of Clackamas County | P.O. Box 1510, 13930 South Gain Street | Oregon | OR | 97045 | 62,979
Mid Columbia Housing Authority | 312 Court Street, Suite 419 | The Dalles | OR | 97058 | 79,773
Housing Authority of Washington County (OR022) | 111 North East Lincoln, Suite 200-L | Hillsboro | OR | 97124 | 98,124
Housing Authority of Yamhill County | P.O. Box 2, 135 North East Dunn Place | McMinnville | OR | 97128 | 150,831
Northwest Oregon Housing Authority | P.O. Box 1149, 147 South Main Avenue | Warrenton | OR | 97146 | 31,891
Housing Authority of the City of Salem | P.O. Box 808, 360 Church Street, Southeast | Salem | OR | 97308 | 188,601
Linn-Benton Housing Authority | 1250 South East Queen Avenue | Albany | OR | 97322 | 114,821
Housing Authority of Lincoln County | P.O. Box 1470, 1039 Northwest Nye Street | Newport | OR | 97365 | 34,612
Housing Authority and Community Services Agency of Lane County | 177 Day Island Road | Eugene | OR | 97401 | 102,518
Housing Authority of Douglas County | 902 West Stanton | Roseburg | OR | 97470 | 53,555
Housing Authority of Jackson County | 2251 Table Rock Road | Medford | OR | 97501 | 89,781
Central Oregon Regional Housing Authority | 405 SW 6th Street | Redmond | OR | 97756 | 82,392
Northeast Oregon Housing Authority | P.O. Box 3357, 2608 May Lane | La Grande | OR | 97850 | 80,878
Housing Authority of Malheur County | 959 Fortner Street | Ontario | OR | 97914 | 22,471
Housing Authority & Urban Renewal Agency of Polk County dba West Valley Housing Authority | 204 South West Walnut | Dallas | OR | 97338-0476 | 32,407
Housing Authority of the City of Pittsburgh | 200 Ross Street, 9th Floor | Pittsburgh | PA | 15219 | 185,364
Allegheny County Housing Authority | 625 Stanwix Street—12th Floor | Pittsburgh | PA | 15243 | 96,945
Fayette County Housing Authority | 624 Pittsburgh Road | Fayette | PA | 15436 | 40,000
Westmoreland County Housing Authority | Road #6, Box 223 South Greengate Road | Greensburg | PA | 15601 | 73,691
Housing Authority of the County of Butler | 114 Woody Drive | Butler | PA | 16001 | 86,544
Housing Authority of the County of Armstrong | 350 South Jefferson Street | Kittanning | PA | 16201 | 25,298
Clarion County Housing Authority | 8 West Main Street | Clarion | PA | 16214 | 38,662
Altoona Housing Authority | 2700 Pleasant Valley Boulevard | Altoona | PA | 16602 | 53,940
Housing/Redev. Authority of Cumberland County | 114 North Hanover Street | Carlisle | PA | 17013 | 38,389
Housing Authority of the County of Dauphin | P.O. Box 7598, 501 Mohn Street | Steelton | PA | 17113 | 116,765
Adams County Housing Authority | 40 East High Street | Gettysburg | PA | 17325 | 45,905
Housing Authority of the City of York | P.O. Box 1963, 31 South Broad Street | York | PA | 17403 | 39,510
Housing Authority of the City of Lancaster | 325 Church Street | Lancaster | PA | 17602 | 49,777
Lancaster County Housing Authority | 150 North Queen Street, Suite 110 | Lancaster | PA | 17603 | 99,554
Housing Authority of Northumberland County | 50 Mahoning Street | Milton | PA | 17847 | 32,231
Delaware County Housing Authority | P.O. Box 100, 1855 Constitution Avenue | Woodlyn | PA | 19094 | 41,800
Philadelphia Housing Authority | 12 South 23rd Street, 6th Floor | Philadelphia | PA | 19103 | 282,659
Housing Auth. of Chester County | 30 West Barnard Street, Suite 2 | West Chester | PA | 19382 | 98,169
Montgomery County Housing Authority | 104 West Main Street, #1 | Norristown | PA | 19401 | 95,167
Municipality of Aguas Buenas | Calle Rafael Lasa, #48 | Aguas Buenas | PR | 00703 | 22,622
Municipality of Juana Diaz | Calle Degetau #35 | Juana Diaz | PR | 00795 | 21,336
Coventry Housing Authority | 14 Manchester Circle | Coventry | RI | 02816 | 47,200
Housing Authority of The Town of East Greenwich | 146 First Avenue | East Greenwich | RI | 02818 | 53,800
Central Falls Housing Authority | 30 Washington Street | Central Falls | RI | 02863 | 61,587
Cumberland Housing Authority | 573 Mendon Road | Cumberland | RI | 02864 | 44,474
Narragansett Housing Authority | 25 Fifth Avenue | Narragansett | RI | 02882 | 74,181
Housing Authority of the City of Woonsocket | 679 Social Street | Woonsocket | RI | 02895 | 45,000
Providence Housing Authority | 100 Broad Street | Providence | RI | 02903 | 121,546
Rhode Island Housing | 44 Washington Street | Providence | RI | 02903 | 63,000
Town of North Providence Housing Authority | 945 Charles Street | North Providence | RI | 02904 | 53,530
Town of Johnston Housing Authority | 8 Forand Circle | Johnston | RI | 02919 | 34,000
SC State Housing Finance & Development Authority | 300-C Outlet Pointe Boulevard | Columbia | SC | 29210 | 60,000
The Housing Authority of the City of Spartanburg | 325 South Church Street | Spartanburg | SC | 29306 | 92,096
The Housing Authority of The City of Charleston | 550 Meeting Street | Charleston | SC | 29403 | 91,396
North Charleston Housing Authority | 2170 Ashley Phosphate, Suite 700 | North Charleston | SC | 29406 | 45,000
Myrtle Beach Housing Authority | P.O. Box 2468, 605 10th Avenue North | Myrtle Beach | SC | 29578 | 78,568
The Housing Authority of the City of Greenville, SC | 511 Augusta Street | Greenville | SC | 29605 | 31,742
Housing Authority of Anderson | 1335 East River Street | Anderson | SC | 29624 | 36,748
Greenwood Housing Authority | Post Office Box 973, 315 Foundry Road | Greenwood | SC | 29648 | 36,694
Beaufort Housing Authority | Post Office Box 1104, 1009 Prince Street | Beaufort | SC | 29945 | 24,724
Brookings County Housing & Redevelopment Commission | P.O. Box 432, 1310 South Main Street | Brookings | SD | 57006 | 35,990
Sioux Falls Housing and Redevelopment Commission | 630 South Minnesota Avenue | Sioux Falls | SD | 57104 | 70,287
Mobridge Housing & Redevelopment Commission | P.O. Box 370, 116 4th Street W | Mobridge | SD | 57601 | 32,571
Metropolitan Development & Housing Agency | 701 South 6th Street | Nashville | TN | 37206 | 176,452
Tennessee Housing Development Agency | 404 James Robertson Parkway, Suite 1114 | Nashville | TN | 37243 | 193,559
Chattanooga Housing Authority | P.O. Box 1486, 505 West M.L. King Jr. Boulevard | Chattanooga | TN | 37401 | 98,705
Kingsport Housing & Redevelopment Authority | P.O. Box 44 | Kingsport | TN | 37662 | 75,454
Oak Ridge Housing Authority | 10 Van Hicks Lane | Oak Ridge | TN | 37830 | 34,870
Knoxville's Community Development Corporation | 901 North Broadway | Knoxville | TN | 37917 | 85,613
East Tennessee Human Resource Agency, Inc | 9111 Cross Park Drive, D-100 | Knoxville | TN | 37923 | 33,145
Memphis Housing Authority | 700 Adams Avenue | Memphis | TN | 38105 | 82,450
Jackson Housing Authority | 125 Preston Street | Jackson | TN | 38301 | 87,666
Crossville Housing Authority | 67 Irwin Avenue | Crossville | TN | 38555 | 48,125
Housing Authority of the City of Plano | 1111 Avenue H, Building A | Plano | TX | 75075 | 35,028
Texoma Council of Governments | 1117 Gallagher Drive | Sherman | TX | 75090 | 37,055
Garland Housing Agency | 210 Carver Suite, 201B | Garland | TX | 75098 | 48,876
The Housing Authority of the City of Dallas, Texas (DHA) | 3939 North Hampton | Dallas | TX | 75212 | 335,898
City of Longview Housing/Community Development | P.O. Box 1952, 140 East Tyler, #300 | Longview | TX | 75606 | 57,761
Deep East Texas Council of Governments | 210 Premier Drive | Jasper | TX | 75951 | 62,492
Housing Authority of the City of Arlington | 501 West Sanford Street, Suite 20 | Arlington | TX | 76011 | 103,204
Housing Authority of the City of Fort Worth | 1201 East 13th Street | Fort Worth | TX | 76102 | 42,654
Tarrant County | 100 East Weatherford, Suite 500 | Fort Worth | TX | 76196 | 105,570
Housing Authority of the City of Waco | P.O. Box 978, 4400 Cobbs | Waco | TX | 76703 | 70,335
Housing Authority of the City of San Angelo | 420 East 28th | San Angelo | TX | 76903 | 47,427
Housing Authority of the City of Houston | P.O. Box 2971, 2640 Fountain View Drive | Houston | TX | 77057 | 77,296
Housing Authority of Montgomery County, Texas | 1022 McCall Street | Conroe | TX | 77301 | 36,928
Galveston Housing Authority | 4700 Broadway | Galveston | TX | 77551 | 103,698
Housing Authority of the City of Beaumont | 1890 Laurel | Beaumont | TX | 77701 | 78,174
Laredo Housing Authority | 2000 San Francisco Avenue | Laredo | TX | 78040 | 44,608
The Housing Authority of the City of San Antonio | 818 S. Flores Street | San Antonio | TX | 78204 | 94,975
Housing Authority of the City of Brownsville | 2606 Boca Chica Blvd | Brownsville | TX | 78521 | 82,216
Cameron County Housing Authority | P.O. Box 5806, 65 Castellano Circle | Brownsville | TX | 78526 | 83,690
Mission Housing Authority | 1300 East 8th | Mission | TX | 78572 | 60,199
Housing Authority of the City of Pharr | 211 West Audrey | Pharr | TX | 78577 | 57,849
Port Isabel Housing Authority | P.O. Box 1196 | Port Isabel | TX | 78578 | 25,000
Housing Authority of the County of Hidalgo | 1800 North Texas Boulevard | Weslaco | TX | 78596 | 36,000
City of San Marcos Housing Authority | 1201 Thrope Lane | San Marcos | TX | 78666 | 46,000
Housing Authority of the City of Austin | 1640 B. East 2nd Street | Austin | TX | 78702 | 128,100
City of Amarillo | P.O. Box 1971 | Amarillo | TX | 79105 | 34,605
Midland County Housing Authority | 1710 Edwards | Midland | TX | 79701 | 40,405
Housing Authority of the City of Anthony | P.O. Box 1710, 1007 Franklin Street | Anthony | TX | 79821 | 36,876
Housing Authority of the City of El Paso | 5300 Paisano Drive | El Paso | TX | 79905 | 76,405
Davis County Housing Authority | P.O. Box 328, 352 South 200 West, Suite 1 | Farmington | UT | 84025 | 37,081
Housing Authority of Salt Lake City | 1776 South West Temple | Salt Lake City | UT | 84115 | 97,317
Housing Authority of the County of Salt Lake | 3595 South Main Street | Salt Lake City | UT | 84115 | 87,487
Housing Authority of the City of Ogden | 2661 Washington Boulevard | Ogden | UT | 84401 | 54,307
Provo City Housing Authority | 650 West 100 North | Provo | UT | 84601 | 78,488
Housing Authority of Utah County | 240 East Center Street | Provo | UT | 84606 | 42,334
Cedar City Housing Authority | 364 South 100 East | Cedar City | UT | 84720 | 50,300
County of Loudoun | 102 Heritage Way, Northeast, Suite 200 | Leesburg | VA | 20176 | 63,000
Fairfax County Redevelopment and Housing Authority | 3700 Pender Drive, Suite 300 | Fairfax | VA | 22030 | 63,000
Prince William County Office of Housing & Community Development | 15941 Donald Curtis Drive, Suite 112 | Woodbridge | VA | 22191 | 105,632
Alexandria Redevelopment and Housing Authority | 600 North Fairfax Street | Alexandria | VA | 22314 | 55,000
Harrisonburg Redevelopment and Housing Authority | P.O. Box 1071 | Harrisonburg | VA | 22803 | 22,854
Albemarle County Office of Housing | 1600 5th Street, Suite B | Charlottesville | VA | 22902 | 44,000
Waynesboro Redevelopment and Housing Authority | P.O. Box 1138, 1700 New Hope Road | Waynesboro | VA | 22980 | 37,138
James City County Office | 5248 Olde Town Road Suite 10 | Williamsburg | VA | 23188 | 46,107
Virginia Housing Development Authority | 601 South Belvidere Street | Richmond | VA | 23220 | 188,427
Richmond Redevelopment Housing Authority | P.O. Box 26887, 901 Chamberlayne Parkway | Richmond | VA | 23261 | 125,620
Chesapeake Redevelopment & Housing Authority | 1468 South Military Highway | Chesapeake | VA | 23320 | 48,033
City of Virginia Beach | 2424 Courthouse Drive, Municipal Center, Building 18-A | Virginia Beach | VA | 23456 | 46,963
Norfolk Redevelopment and Housing Authority | P.O. Box 968, 201 Granby Street | Norfolk | VA | 23510 | 99,152
Newport News Redevelopment and Housing Authority | P.O. Box 797, 227 27th Street | Newport News | VA | 23607 | 129,166
Hampton Redevelopment & Housing Authority | Post Office Box 280 | Hampton | VA | 23669 | 44,580
Portsmouth Redevelopment & Housing Authority | 801 Water Street | Portsmouth | VA | 23704 | 41,128
Petersburg Redevelopment & Housing Authority | 128 South Sycamore Street | Petersburg | VA | 23804 | 43,430
Roanoke Redevelopment and Housing Authority | 2624 Salem Turnpike, North West | Roanoke | VA | 24017 | 48,965
Danville Redevelopment and Housing Authority | 651 Cardinal Place | Danville | VA | 245431 | 34,340
Burlington Housing Authority (VT001) | 65 Main Street | Burlington | VT | 05401 | 96,751
Vermont State Housing Authority | One Prospect Street | Montpelier | VT | 05602 | 242,891
Seattle Housing Authority | P.O. Box 19028, 120 6th Avenue North | Seattle | WA | 98109 | 257,825
King County Housing Authority | 600 Andover Park West | Tukwila | WA | 98188 | 126,000
Housing Authority of the City of Everett | P.O. Box 1547, 3107 Colby Avenue | Everett | WA | 98201 | 134,460
Housing Authority of Snohomish County | 12625 4th Avenue West, Suite 200 | Everett | WA | 98204 | 18,751
Housing Authority of Island County | 7 North West 6th Street | Coupeville | WA | 98239 | 45,925
Housing Authority of the City of Bremerton | 110 Russell Road | Bremerton | WA | 98312 | 41,990
Housing Authority of the County of Clallam | 2603 South Francis Street | Port Angeles | WA | 98362 | 89,600
Housing Authority of Jefferson County | 5210 Kuhn Street | Port Townsend | WA | 98368 | 37,091
Kitsap County Consolidated Housing Authority | 9307 Bayshore Drive, Northwest | Silverdale | WA | 98383 | 96,486
Housing Authority of the City of Tacoma | 902 South L Street | Tacoma | WA | 98405 | 63,000
Pierce County Housing Authority | 603 South Polk Street | Tacoma | WA | 98444 | 126,000
Housing Authority of Thurston County | 503 West 4th Avenue | Olympia | WA | 98501 | 126,000
Housing Authority City of Kelso | 1415 South Tenth | Kelso | WA | 98626 | 22,618
Housing Authority for the City of Longview | 1207 Commerce Avenue | Longview | WA | 98632 | 76,741
Housing Authority of Chelan County and the City of Wenatchee | 1555 South Methow | Wenatchee | WA | 98801 | 30,910
City of Kenosha Housing Authority | 625 52nd Street, Room 98 | Kenosha | WI | 53140 | 46,662
City of Waukesha Housing Authority | 120 Corrina Boulevard | Waukesha | WI | 53186 | 57,200
New Berlin Housing Authority | 120 Corrina Boulevard | Waukesha | WI | 53186 | 28,600
Waukesha County Housing Authority | 120 Corrina Boulevard | Waukesha | WI | 53186 | 57,200
Housing Authority of Racine County | 837 Main Street | Racine | WI | 53403 | 62,978
Beloit Housing Authority | 220 Portland Avenue | Beloit | WI | 53511 | 63,000
Brown County Housing Authority | 100 North Jefferson Street | Green Bay | WI | 54301 | 125,693
Dunn County Housing Authority/West CAP | 1421 Stout Road | Menomonie | WI | 54751 | 35,580
Appleton Housing Authority | 925 West Northland Avenue | Appleton | WI | 54914 | 37,594
Greenbrier Housing Authortiy | Route 2, Box 142 | Lewisburg | WV | 24901 | 58,027
Housing Authority of the City of Charleston | P.O. Box 86, 911 Michael Avenue | Charleston | WV | 25312 | 33,704
Housing Authority of Mingo County | P.O. Box 120, 5026 Helena Avenue | Delbarton | WV | 25670 | 31,193
The Huntington WV Housing Authority | 300 Seventh Avenue West | Huntington | WV | 25701 | 35,874
Benwood Housing Authority | 2200 Marshall Street | Benwood | WV | 26031 | 35,849
Parkersburg Housing Authority | 1901 Cameron Avenue | Parkersburg | WV | 26101 | 27,627
Housing Authority of the City of Buckhannon | 23½ Hinkle Drive | Buckhannon | WV | 26201 | 26,654
The Housing Authority of the City of Fairmont | P.O. Box 2738, 103 Twelfth Street | Fairmont | WV | 26554 | 53,555

[FR Doc. E7-38 Filed 1-5-07; 8:45 am]

BILLING CODE 4210-67-P